DEPARTMENT OF ENERGY

Federal Energy Regulatory Commission

Combined Notice of Filings #2

Take notice that the Commission received the following electric rate filings:

Docket Numbers: ER10-3178-001.

Applicants: Windstar Energy, LLC.

Description: Windstar Energy, LLC's Supplement to March 25, 2013 Notice of Change in Status and Waiver Request of Certain Reporting Requirements.

Filed Date: 4/8/13.

Accession Number: 20130408-5195.

Comments Due: 5 p.m. ET 7/31/13.

Docket Numbers: ER11-3417-003; ER10-2895-006; ER11-2292-005; ER11-3942-004; ER11-2293-005; ER10-2917-006; ER11-2294-005; ER12-2447-003; ER10-2918-007; ER12-199-006; ER10-2920-006; ER10-1900-004; ER11-3941-004; ER10-2921-006; ER10-2922-006; ER10-3048-004; ER10-2966-006.

Applicants: Alta Wind VIII, LLC, Bear Swamp Power Company LLC, Brookfield Energy Marketing, Inc., Brookfield Energy Marketing LP, Brookfield Energy Marketing US LLC, Brookfield Renewable Energy Marketing US, Brookfield Smoky Mountain Hydropower LLC, Carr Street Generating Station, L.P., Coram California Development, L.P., Erie Boulevard Hydropower, L.P.,FPL Energy Maine Hydro LLC, Granite Reliable Power, LLC, Great Lakes Hydro America LLC, Hawks Nest Hydro LLC, Longview Fibre Paper and Packaging, Inc., Rumford Falls Hydro LLC, Brookfield Power Piney & Deep Creek LLC.

Description: Brookfield Companies Supplement to March 25, 2013 Notice of Change in Status.

Filed Date: 4/8/13.

Accession Number: 20130408-5190.

Comments Due: 5 p.m. ET 7/31/13.

Docket Numbers: ER13-1157-000.

Applicants: Ameren Illinois Company.

Description: Refund Report to be effective N/A.

Filed Date: 7/10/13.

Accession Number: 20130710-5068.

Comments Due: 5 p.m. ET 7/31/13.

Docket Numbers: ER13-1256-000.

Applicants: The Narragansett Electric Company.

Description: The Narragansett Electric Company submits Refund Report regarding Interconnection Agreement with Pontiac Energy Corp. to be effective N/A.

Filed Date: 7/10/13.

Accession Number: 20130710-5150.

Comments Due: 5 p.m. ET 7/31/13.

Docket Numbers: ER13-1692-000.

Applicants: Florida Power & Light Company.

Description: Supplement to the FPL and Miami-Dade County Service Agreement No. 124 to be effective N/A.

Filed Date: 7/10/13.

Accession Number: 20130710-5101.

Comments Due: 5 p.m. ET 7/31/13.

Docket Numbers: ER13-1925-000.

Applicants: Public Service Company of Colorado.

Description: 2013-07-10_333-PSCo TSGT Davis CA to be effective 6/11/2013.

Filed Date: 7/10/13.

Accession Number: 20130710-5097.

Comments Due: 5 p.m. ET 7/31/13.

Docket Numbers: ER13-1931-000.

Applicants: South Jersey Energy ISO3, LLC.

Description: Market Based Rates Tariff to be effective 7/11/2013.

Filed Date: 7/10/13.

Accession Number: 20130710-5131.

Comments Due: 5 p.m. ET 7/31/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 10, 2013.
Nathaniel J. Davis, Sr.,
Deputy Secretary.

[FR Doc. 2013-17381 Filed 7-18-13; 8:45 am]

BILLING CODE 6717-01-P